FEDERAL RESERVE SYSTEM

12 CFR Part 201

[Regulation A]

Extensions of Credit by Federal Reserve Banks

AGENCY: Board of Governors of the Federal Reserve System.

ACTION: Correcting amendments.

SUMMARY: The Board of Governors of the Federal Reserve System (Board) is correcting a document published in the Federal Register of September 27, 2007, that amended Regulation A to reflect a decrease in the primary and secondary credit rates at each Federal Reserve Bank.

DATES: This correction is effective October 5, 2007. The rate changes for primary and secondary credit were effective on the dates specified in 12 CFR 201.51, as amended.

FOR FURTHER INFORMATION CONTACT: Jennifer J. Johnson, Secretary of the Board (202/452-3259); for users of Telecommunication Devices for the Deaf (TDD) only, contact 202/263-4869.

SUPPLEMENTARY INFORMATION: The Board published a document in the Federal Register of September 27, 2007 (72 FR 54813). The document (FR Doc. E7-19062) amended the Federal Reserve Banks' primary and secondary credit rates on extensions of credit available to depository institutions as a backup source of funding on a short-term basis. This document corrects the secondary credit rates for the Federal Reserve Bank of Dallas and the Federal Reserve Bank of San Francisco.

List of Subjects in 12 CFR Part 201

Banks, Banking, Federal Reserve System, Reporting and recordkeeping.

Authority and Issuance

For the reasons set forth in the preamble, the Board is amending 12 CFR Chapter II to read as follows:

PART 201—EXTENSIONS OF CREDIT BY FEDERAL RESERVE BANKS (REGULATION A)

1. The authority citation for part 201 continues to read as follows:

Authority: 12 U.S.C. 248(i)-(j), 343 et seq., 347a, 347b, 347c, 348 et seq., 357, 374, 374a, and 461.

2. In § 201.51 in paragraph (b), the entries for Dallas and San Francisco are revised to read as follows:

§ 201.51 Interest rates applicable to credit extended by a Federal Reserve Bank.¹

¹ The primary, secondary, and seasonal credit rates described in this section apply to both advances and discounts made under the primary, secondary, and seasonal credit programs, respectively.

* * * * *

(b) * * *

Federal Reserve Bank | Rate | Effective
* * * * *
Dallas | 5.75 | September 19, 2007.
San Francisco | 5.75 | September 18, 2007.

* * * * *

By order of the Board of Governors of the Federal Reserve System, October 2, 2007.
Jennifer J. Johnson,
Secretary of the Board.

[FR Doc. E7-19691 Filed 10-4-07; 8:45 am]

BILLING CODE 6210-01-P